FEDERAL COMMUNICATIONS COMMISSION

47 CFR Part 73

[DA 01-246, MM Docket No. 00-162, RM-9948]

Digital Television Broadcast Service; Fresno, CA

AGENCY: Federal Communications Commission.

ACTION: Final rule.

SUMMARY: The Commission, at the request of Ackerley Broadcasting of Fresno, LLC, the successor-in-interest to Fisher Broadcasting-Fresno, licensee of station KGPE(TV) [formerly KJEO(TV)], substitutes DTV channel 34 for DTV channel 14 at Fresno, California. See 65 FR 54832, September 11, 2000. DTV channel 14 can be allotted to Fresno in compliance with the principle community coverage requirements of Section 73.625(a) at reference coordinates (37-04-14 N. and 119-25-31 W.) with a power of 330, HAAT of 597 meters and with a DTV service population of 1248 thousand.

With is action, this proceeding is terminated.

DATES: Effective March 19, 2001.

FOR FURTHER INFORMATION CONTACT: Pam Blumenthal, Mass Media Bureau, (202) 418-1600.

SUPPLEMENTARY INFORMATION: This is a synopsis of the Commission's Report and Order, MM Docket No. 00-162, adopted February 1, 2001, and released February 2, 2001. The full text of this Commission decision is available for inspection and copying during normal business hours in the FCC Reference Center 445 12th Street, SW., Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under California, is amended by removing DTV channel 14 and adding DTV channel 34 at Fresno.

Federal Communications Commission.
Barbara A. Kreisman,
Chief, Video Services Division, Mass Media Bureau.

[FR Doc. 01-3050 Filed 2-5-01; 8:45 am]

BILLING CODE 6712-01-P